DEPARTMENT OF COMMERCE

National Oceanic and Atmospheric Administration

Federal Consistency Appeal by Islander East Pipeline Company From an Objection by the Connecticut Department of Environmental Protection

AGENCY: National Oceanic and Atmospheric Administration (NOAA), Department of Commerce (Commerce).

ACTION: Notice of recommencement of appeal proceedings; reopening of public comment period.

SUMMARY: This notice: (1) Announces the resumption of processing of Islander East's administrative appeal (Consistency Appeal of Islander East Pipeline Company, L.L.C.) by the Department of Commerce; (2) reopens the period for the public to comment on Islander East's administrative appeal; and (3) provides information about other procedural aspects of the appeal.

DATES: Processing of the Islander East appeal by the Department of Commerce resumed on August 8, 2003. The public comment period for the appeal will run through November 20, 2003. The deadline for federal agencies to submit comments on the appeal is October 27, 2003. Information concerning a public hearing on the appeal to be held in Connecticut will be available approximately 30 days prior to the hearing.

ADDRESSES: All e-mail comments on issues relevant to the Secretary of Commerce's (Secretary) decision in this appeal may be submitted to IslanderEast.comments@noaa.gov. Comments may also be sent by mail to the Office of the General Counsel for Ocean Services, National Oceanic and Atmospheric Administration, U.S. Department of Commerce, 1305 East-West Highway, Silver Spring, MD 20910. Materials from the appeal record are available at the Internet site http://www.ogc.doc.gov/czma.htm and at the Office of the General Counsel for Ocean Services. Also, public filings made by the parties to the appeal are to be available for review at the Connecticut Department of Environmental Protection, 79 Elm Street, Hartford, CT.

FOR ADDITIONAL INFORMATION CONTACT: Branden Blum, Senior Counselor, NOAA Office of the General Counsel, via e-mail at GCOS.inquiries@noaa.gov, or at 301-713-2967, extension 186.

SUPPLEMENTARY INFORMATION:

I. Recommencement of Appeal Proceedings

In November 2002, the Islander East Pipeline Company, L.L.C. (Islander East) filed a notice of appeal with the Department of Commerce (Department) pursuant to the Coastal Zone Management Act of 1972 (CZMA), as amended, asking that the Secretary of Commerce override the State of Connecticut's (State) objection to Islander East's proposed natural gas pipeline. The pipeline would extend from near North Haven, Connecticut, across the Long Island Sound to a terminus in Suffolk County (Long Island), New York. Connecticut's objection is based on the project's potential effects on the natural resources or land and water uses of Connecticut's coastal zone.

Appeal proceedings before the Department have been stayed since March 17, 2003. The initial stay and an extension were granted at the request of both parties to allow for settlement negotiations. A subsequent stay was granted in order to accommodate Islander East's request that the appeal be remanded to the Connecticut Department of Environmental Protection (Connecticut) for reconsideration of its objection to the proposed natural gas pipeline project. On July 29, 2003, Connecticut reiterated its continuing objection to the proposed pipeline. Connecticut's determination requires the Department of Commerce to resume processing the Islander East appeal. 15 CFR 930.129(d). Consequently, the Department provided notice to the parties on August 8, 2003 that it was recommencing processing of Islander East's appeal. Information on scheduled filings by the parties is available at the Department's Coastal Zone Management Act Appeals Web site, http://www.ogc.doc.gov/czma.htm.

II. Public Comments

In connection with the resumption of appeal proceedings, the public comment period has been reopened through November 20, 2003. During this period, the public may submit comments to the Department of Commerce (see address section above) on issues to be considered in the appeal. A summary of the grounds for which Islander East requested an override of the State's objection appears in the Federal Register at 68 FR 3513. Comments received between July 31, 2003, the close of the earlier public comment period, and before the publication of this notice, will be considered to be timely filed.

III. Other Procedural Matters

This portion of the Federal Register notice provides information concerning other aspects of the Islander East appeal that are affected by the resumption of proceedings. The federal agency comment period has been reopened and letters announcing this action were sent to agencies whose views had been previously solicited but not yet received, although timely comments will be accepted from all agencies. The Department will also schedule a public hearing on the appeal in the State of Connecticut. A hearing, to occur prior to the close of the public comment period, had been previously announced in the Federal Register. 68 FR 5620. A notice concerning the date, location and related information will be provided at least 30 days prior to the hearing.

Please visit the Department of Commerce CZMA Appeals Web site (http://www.ogc.doc.gov/czma.htm) for further information concerning the CZMA administrative appeal process or to review documents from the Islander East appeal record.

Questions about the resumption of the Islander East appeal may be sent to the National Oceanic and Atmospheric Administration, U.S. Department of Commerce, via e-mail (GCOS.inquiries@noaa.gov) or made by telephone (301 713-2967, extension 186).

[Federal Domestic Assistance Catalog No. 11.419 Coastal Zone Management Program Assistance.]
Dated: August 13, 2003.
James R. Walpole,
General Counsel.

[FR Doc. 03-21207 Filed 8-18-03; 8:45 am]

BILLING CODE 3510-08-P